DEPARTMENT OF COMMERCE

National Oceanic and Atmospheric Administration

RIN 0648-XA451

Pacific Whiting; Advisory Panel and Joint Management Committee

AGENCY: National Oceanic and Atmospheric Administration (NOAA) Commerce, National Marine Fisheries Service (NMFS).

ACTION: Notice; call for nominations.

SUMMARY: NMFS solicits nominations for the Advisory Panel (AP) and the Joint Management Committee (JMC) on Pacific Whiting called for in the Agreement between the Government of the United States of America and the Government of Canada on Pacific Hake/Whiting. Nominations are being sought for at least 6, but not more than 12 individuals on the AP and 1 individual on the JMC to serve as United States representatives.

DATES: Nominations must be received by June 30, 2011.

ADDRESSES: You may submit nominations by any of the following methods:

• E-mail: whiting.nominations.nwr@noaa.gov Include 0648-XA451 in the subject line of the message.

• Fax: 206-526-6736, Attn: Frank Lockhart.

• Mail: William W. Stelle, Jr., Regional Administrator, Northwest Region, NMFS, 7600 Sand Point Way, NE., Seattle, WA 98115-0070.

FOR FURTHER INFORMATION CONTACT: Frank Lockhart at 206-526-6142.

SUPPLEMENTARY INFORMATION: Title VI of the Magnuson-Stevens Fishery Conservation and Management Reauthorization Act of 2006 (MSRA) entitled “The Pacific Whiting Act of 2006,” (Whiting Act) implements the 2003 “Agreement between the Government of the United States of America and the Government of Canada on Pacific Hake/Whiting.” Among other provisions, the Whiting Act provides for the establishment of an AP to advise the JMC on bilateral whiting management issues. An initial solicitation was published in the Federal Register on October 24, 2007 (72 FR 60317) and resulted in insufficient nominations to meet the requirements of the Act. Nominations are being sought to fill at least 6, but no more than 12 positions on the Pacific Whiting AP for terms of 4 years. The Whiting Act requires that appointments to the AP be selected from among individuals who are “(A) knowledgeable or experienced in the harvesting, processing, marketing, management, conservation, or research of the offshore whiting resource; and (B) not employees of the United States.” Nominations are sought for any persons meeting these requirements.

Nominations are also being sought for a representative from the commercial sector of the offshore whiting fishery to serve on the JMC for a term not to exceed 4 years. The Whiting Act requires that appointments to the JMC be “representatives from among individuals who are knowledgeable or experienced concerning the offshore whiting resource.” Nominations are sought for any persons meeting these requirements. Separate from the JMC representative for which nominations are sought through this notice, the JMC will also include one official from NOAA, one member from the Pacific Fishery Management Council, and one member appointed from a list submitted by the treaty Indian tribes with treaty fishing rights to the offshore whiting resource. Nomination packages for appointment to the AP or the JMC should include:

1. The name of the applicant or nominee and a description of his/her interest in Pacific whiting; and,

2. A statement of background and/or description of how the above qualifications are met.

The term of office for the Pacific Whiting AP members is not to exceed 4 years (48 months). The term of office for the Pacific Whiting JMC members is not to exceed 4 years (48 months), except that initial appointments may be 2 years. Members appointed to the AP and JMC will be reimbursed for necessary travel expenses in accordance with Federal Travel Regulations and sections 5701, 5702, 5704 through 5708, and 5731 of Title 5. In the initial year of implementation, NMFS anticipates that up to 3 meetings of the AP and JMC will be required. In subsequent years, 1-2 meetings of the AP and JMC will be held annually. Meetings of the AP and JMC will be held in the United States or Canada. JMC and AP members will need a valid U.S. passport. The Pacific Whiting Act of 2006 also states that while performing their appointed duties as JMC or AP members, members “other than officers or employees of the United States Government, shall not be considered to be Federal employees while performing such service, except for purposes of injury compensation or tort claims liability as provided in chapter 81 of Title 5 and chapter 171 of Title 28.”

Authority: 16 U.S.C. 1801 et seq.

Dated: May 24, 2011.
Margo Schulze-Haugen,
Acting Director, Office of Sustainable Fisheries, National Marine Fisheries Service.

[FR Doc. 2011-13377 Filed 5-27-11; 8:45 am]

BILLING CODE 3510-22-P